SOCIAL SECURITY ADMINISTRATION

Statement of Organization, Functions and Delegations of Authority; Correction

AGENCY: Social Security Administration.

ACTION: Notice; correction.

SUMMARY: The Social Security Administration published a document in the Federal Register of April 24, 2001, regarding the Statement of Organization, Functions and Delegations of Authority. The document contained an incorrect title for the Division of Information Technology Integration in the Office of Management in the Office of Hearings and Appeals (OHA).

Corrections

In the Federal Register of April 24, 2001, in FR Doc. 01-10081, on page 20703, in the first column, H. 5. Correct the title to read:

5. The “Office Automation Support Staff” as “Division of Information Technology Integration” (TAHE7).

In the Federal Register of April 24, 2001, in FR Doc. 01-10081, on page 20703, in the second column, under “Functions” item H.5. Correct the title to read:

5. The “Office of Automation Support Staff” as “Division of Information Technology Integration” (TAHE7).

In the Federal Register of April 24, 2001, in FR Doc. 01-10081, on page 20703, in the third column, line 12: Remove the period between the word “needs” and the word “and”.

Dated: May 4, 2001.
Lewis H. Kaiser,
Director, Center for Classification and Organization Management.

[FR Doc. 01-11962 Filed 5-11-01; 8:45 am]

BILLING CODE 4191-02-U